DEPARTMENT OF ENERGY

Federal Energy Regulatory Commission

[Docket No. RP01-200-000]

Colorado Interstate Gas Company; Notice of Tariff Filing

January 4, 2001.

Take notice that on December 29, 2000, Colorado Interstate Gas Company (CIG), tendered for filing to become part of its FERC Gas Tariff, First Revised Volume No. 1, the tariff sheets listed in Appendix A to the filing, to be effective February 1, 2001.

CIG states it is making this filing to set forth a new daily Scheduled Imbalance Penalty, and a new Rate Schedule APAL-1 which will provide for a new interruptible automatic parking and lending service (APAL). CIG further states both the Scheduled Imbalance Penalty and the APAL Service are designed to address daily imbalances which represent a significant and ongoing gas management problem on CIG's system.

CIG further states that copies of this filing have been served on CIG's jurisdictional customers and public bodies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­ http://www.ferc.fed.us/efi/doorbell.htm.

David P. Boergers,
Secretary.

[FR Doc. 01-645 Filed 1-9-01; 8:45 am]

BILLING CODE 6717-01-M